DEPARTMENT OF HEALTH AND HUMAN SERVICES

Meeting of the Advisory Council on Alzheimer's Research, Care, and Services

AGENCY: Assistant Secretary for Planning and Evaluation, HHS.

ACTION: Notice of meeting.

SUMMARY: This notice announces public meeting of the Advisory Council on Alzheimer's Research, Care, and Services (Advisory Council). Notice of these meetings is given under the Federal Advisory Committee Act (5 U.S.C. App. 2, section 10(a)(1) and (a)(2)). The Advisory Council on Alzheimer's Research, Care, and Services will provide advice on how to prevent or reduce the burden of Alzheimer's disease and related dementias on people with the disease and their caregivers. A representative from the Department of Health and Human Services (HHS) will present an overview of the Draft National Plan to Address Alzheimer's Disease. The chairs of the three subcommittees (Research, Clinical Care, Long-Term Services and Supports) will summarize the feedback from their subcommittees and suggest recommendations for discussion among the full Advisory Council. The Advisory Council will discuss and, as appropriate, vote upon recommendations to the Secretary of HHS on the Draft National Plan to Address Alzheimer's Disease.

DATES: January 17, 2012 from 9:30 a.m. to 4 p.m. and January 18, 2012 from 9 a.m. to 2 p.m.

ADDRESSES: The meeting will be held at the U.S. Department of Health and Human Services, 200 Independence Avenue SW., Room 800, Washington, DC 20201.

Comments: Time is allocated on the agenda to hear public comments. In lieu of oral comments, formal written comments may be submitted for the record to Helen Lamont, OASPE, 200 Independence Avenue SW., Room 424E, Washington, DC 20201. Comments may also be sent to napa@hhs.gov. Those submitting written comments should identify themselves and any relevant organizational affiliations.

FOR FURTHER INFORMATION CONTACT: Helen Lamont (202) 690-7996, helen.lamont@hhs.gov. NOTE: Seating may be limited. Those wishing to attend the meeting must call or email Dr. Lamont by Tuesday, January 10, 2012, so that their names may be put on a list of expected attendees and forwarded to the security officers at the Department of Health and Human Services. Any interested member of the public who is a non-U.S. citizen should include this information at the time of registration to ensure that the appropriate security procedure to gain entry to the building is carried out. Although the meeting is open to the public, procedures governing security and the entrance to Federal buildings may change without notice.

SUPPLEMENTARY INFORMATION: Topics of the Meeting: The Advisory Council will discuss the Draft National Plan to Address Alzheimer's Disease. The Advisory Council is specifically charged with making recommendations to the Secretary on priorities for the National Plan. As appropriate, the Advisory Council will make, discuss, and vote on such recommendations.

Procedure and Agenda: This meeting is open to the public. A representative from the Department of Health and Human Services (HHS) will present an overview of the Draft National Plan to Address Alzheimer's Disease. The chairs of the three subcommittees (Research, Clinical Care, Long-Term Services and Supports) will summarize the feedback from their subcommittees and suggest recommendations for discussion among the full Advisory Council. The Advisory Council will discuss and, as appropriate, vote upon recommendations to the Secretary of HHS on the Draft National Plan to Address Alzheimer's Disease. The Advisory Council will also discuss how to engage stakeholders outside of the Federal government in the writing and implementation of the National Plan. The Advisory Council will allow an open public session for any attendee to address issues or topics that should be addressed in the National Plan.

Authority: 42 U.S.C. 11225; Section 2(e)(3) of the National Alzheimer's Project Act. The panel is governed by provisions of Public Law 92-463, as amended (5 U.S.C. Appendix 2), which sets forth standards for the formation and use of advisory committees.

Dated: December 19, 2011.
Sherry Glied,
Assistant Secretary for Planning and Evaluation.

[FR Doc. 2012-30 Filed 1-5-12; 8:45 am]

BILLING CODE P